DEPARTMENT OF HEALTH AND HUMAN SERVICES

Administration for Community Living

Agency Information Collection Activities: Proposed Collection; Public Comment Request; for the State Annual Long-Term Care Ombudsman Report (OMB Control Number 0985-0005)

AGENCY: Administration for Community Living, HHS.

ACTION: Notice.

SUMMARY: The Administration for Community Living (ACL) is announcing an opportunity for the public to comment on the proposed collection of information listed above. Under the Paperwork Reduction Act of 1995 (PRA), Federal agencies are required to publish a notice in the Federal Register concerning each proposed collection of information, including each proposed extension of an existing collection of information, and to allow 60 days for public comment in response to the notice. This IC extension solicits comments on the information collection requirements relating to the State Annual Long-Term Care Ombudsman Report (OMB Control Number 0985-0005).

DATES: Comments on the collection of information must be submitted electronically by 11:59 p.m. (EST) or postmarked by October 7, 2024.

ADDRESSES: Submit electronic comments on the collection of information to: Beverley Laubert Beverley.Laubert@acl.hhs.gov. Submit written comments on the collection of information to Administration for Community Living, 330 C Street SW, Washington, DC 20201, Attention: Beverley Laubert.

FOR FURTHER INFORMATION CONTACT: Beverley.Laubert@acl.hhs.gov, (202) 740-0801.

SUPPLEMENTARY INFORMATION: Under the PRA (44 U.S.C. 3501-3520), Federal agencies must obtain approval from the Office of Management and Budget (OMB) for each collection of information they conduct or sponsor. “Collection of information” is defined in 44 U.S.C. 3502(3) and 5 CFR 1320.3(c) and includes agency requests or requirements that members of the public submit reports, keep records, or provide information to a third party. The PRA requires Federal agencies to provide a 60-day notice in the Federal Register concerning each proposed collection of information, including each proposed extension of an existing collection of information, before submitting the collection to OMB for approval. To comply with this requirement, ACL is publishing a notice of the proposed collection of information set forth in this document.

With respect to the following collection of information, ACL invites comments on our burden estimates or any other aspect of this collection of information, including:

(1) whether the proposed collection of information is necessary for the proper performance of ACL's functions, including whether the information will have practical utility;

(2) the accuracy of ACL's estimate of the burden of the proposed collection of information, including the validity of the methodology and assumptions used to determine burden estimates;

(3) ways to enhance the quality, utility, and clarity of the information to be collected; and

(4) ways to minimize the burden of the collection of information on respondents, including using automated collection techniques when appropriate, and other forms of information technology.

The State Annual Long-Term Care Ombudsman Report is needed to comply with Administration for Community Living/Administration on Aging reporting requirements in the Older Americans Act (OAA); and 45 CFR 1324.21(b)(1) and (b)(2)(v). The long-term care ombudsman report is used to measure the services and strategies that are provided to assist residents in the protection of their health, safety, welfare, or rights; advocate at the state and federal levels for changes needed to improve the quality of life and care in long-term care facilities; and effectively manage the Long-Term Care Ombudsman Program at the state and federal level.

The National Ombudsman Reporting System (NORS) was developed in response to these needs and directives. Section 712(c) of the OAA requires the state agency to establish a statewide uniform reporting system to:

(1) Collect and analyze data relating to resident complaints and conditions in long-term care facilities for the purpose of identifying and resolving significant problems.

and

(2) Submit the data on a regular basis to the state licensing/certifying agency, other state and federal entities that the Ombudsman determines to be appropriate, the Assistant Secretary for Aging, and the National Long-Term Care Ombudsman Resource Center.

The proposed data collection tools may be found on the ACL website for review at: https://www.acl.gov/about-acl/public-input.

Estimated Program Burden: ACL estimates the burden of this collection of information as follows:

Fifty-two grantees report to ACL using NORS.

a. Number of respondents: 52.

b. Frequency of response: 1.

c. Total annual responses: 52.

d. Hours per response: 214.

e. Total burden hours: 11,153.

Dated: August 1, 2024.
Alison Barkoff,
Principal Deputy Administrator for the Administration for Community Living, performing the delegable duties of the Administrator and the Assistant Secretary for Aging.

[FR Doc. 2024-17320 Filed 8-5-24; 8:45 am]

BILLING CODE 4154-01-P